DEPARTMENT OF ENERGY

Federal Energy Regulatory Commission

[Docket No. RP02-331-001]

PG&E Gas Transmission, Northwest Corporation; Notice of Compliance

August 23, 2002.

Take notice that on August 19, 2002, PG&E Gas Transmission, Northwest Corporation (GTN) tendered for filing pro forma tariff sheets to modify its incremental fuel roll-down proposal in response to DEK Energy Company's (DEK) and PacifiCorp Power Marketing, Inc.'s (PPM) protests. Following the outcome of the Commission's review of both this filing and the May 1, 2002 filing, GTN will file actual tariff sheets with a November 1, 2002 effective date, i.e., the anticipated in-service date for the 97,500 horsepower of compression associated with GTN's '02 Expansion.

GTN further states that a copy of this filing has been served on GTN's jurisdictional customers and interested state regulatory agencies.

Any person desiring to protest said filing should file a protest with the Federal Energy Regulatory Commission, 888 First Street, NE., Washington, DC 20426, in accordance with section 385.211 of the Commission's Rules and Regulations. All such protests must be filed in accordance with section 154.210 of the Commission's Regulations. Protests will be considered by the Commission in determining the appropriate action to be taken, but will not serve to make protestants parties to the proceedings. This filing is available for review at the Commission in the Public Reference Room or may be viewed on the Commission's website at http://www.ferc.gov using the “FERRIS” link. Enter the docket number excluding the last three digits in the docket number field to access the document. For Assistance, call (202)502-8222 or for TTY, (202) 208-1659. The Commission strongly encourages electronic filings. See, 18 CFR 385.2001(a)(1)(iii) and the instructions on the Commission's web site under the “e-Filing” link.

Linwood A. Watson, Jr.,
Deputy Secretary.

[FR Doc. 02-22035 Filed 8-28-02; 8:45 am]

BILLING CODE 6717-01-P